DEPARTMENT OF VETERANS AFFAIRS

Veterans' Disability Benefits Commission; Notice of Meeting

The Department of Veterans Affairs (VA) gives notice under Public Law 92-463 (Federal Advisory Committee Act) that the Veterans' Disability Benefits Commission has scheduled a town hall meeting for April 11, 2006, at the National Vietnam Veterans Art Museum, 1801 South Indiana Avenue, Chicago, IL. The town hall meeting will begin at 7 p.m. and end at 9 p.m. The meeting is open to the public.

The purpose of the Commission is to carry out a study of the benefits under the laws of the United States that are provided to compensate and assist veterans and their survivors for disabilities and deaths attributable to military service.

The Commission is conducting eight fact-finding site visits throughout the United States. The Chicago area was selected based upon criteria that included the concentration of veterans, active-duty service members, and National Guard members, and reservist, and the co-location of Veterans Benefits Administration, Veterans Health Administration, and Department of Defense (DoD) facilities with particular interests in transition activities. The goal of this visit is to allow the commissioners the opportunity to tour local VA and DoD facilities, examine the processes in place which assist veterans in their efforts to obtain benefits, and to present veterans, survivors and the general public with an opportunity to learn about the work of the Commission and to offer comments in a face-to-face forum.

Interested persons may attend the town hall meeting and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: March 22, 2006.
By direction of the Secretary.
E. Philip Riggin,
Committee Management Officer.

[FR Doc. 06-2987 Filed 3-28-06; 8:45 am]

BILLING CODE 8320-01-M